DEPARTMENT OF LABOR

Office of the Secretary

[Secretary's Order—06-2006]

Authority and Responsibilities for the Regional Executive Committees

1. Purpose

To establish a Regional Executive Committee (REC) in each of the ten regions to coordinate the Department of Labor's (DOL) interagency activities within each region.

2. Directives Affected

This Order cancels Secretary's Order 01-99.

3. Responsibilities of the REC

A. The RECs shall coordinate cross-cutting Department of Labor activities in the field, which may include:

(1) Coordinating implementation of the Secretary's policies in the Region, when appropriate;

(2) Providing comments and recommendations on issues significant to the Department when requested by the Secretary;

(3) Promoting and coordinating the exchange of information among the Department's agencies and bureaus in the field;

(4) Promoting joint program efforts among DOL and other agencies, such as sponsoring affirmative action activities in support of a diverse workforce;

(5) Providing a forum for discussion of Departmental policies and programs;

(6) Representing the Department to the community on matters within its purview; and

(7) Fostering communications with all employees in the region.

4. Organization of the Regional Executive Committee

A. Members. A REC should comprise regional agency and program heads as indicated by Attachment 1. However, an Agency's National Office may vary its REC membership as provided for below:

(1) Agencies may limit their membership by selecting as the REC member a single program head to represent the Agency.

(2) Agencies with principal field components located in a Region and with no staff in the Regional city may select one senior manager in the Region to represent the Agency (e.g., MSHA has several District Offices in the Atlanta Region, but no presence in Atlanta; MSHA should designate one District Manager as the MSHA REC member).

(3) Agencies with staff in a Regional City where the Regional Agency Head is located in another city may designate an employee in the Regional City as an alternate member to represent the Regional Agency Head (e.g., OASAM has staff in Kansas City, but the Regional Administrator is in Chicago).

(4) The Regional Inspector General for Audit and the Special Agent in Charge of the Office of Labor Racketeering and Fraud Investigations are full members of the REC; however, the OIG may decide that it is appropriate for them to abstain from participation in certain REC activities (e.g., decision-making related to DOL management or program responsibilities).

B. Alternate members. The REC is a management committee. Alternate members designated to represent an agency or a program should, whenever possible, be managers. When employees who are not part of management serve as alternate members, they shall have no voting privileges and may not engage in a leadership or representational role on behalf of the REC. Employees inside the bargaining unit may not represent an Agency Head at a REC meeting either on a temporary or permanent basis.

C. Chair and Vice Chair. Only members of the Regional Executive Committee can be elected Chair of the REC. The Chair and Vice Chair of the REC are selected by the REC members. The chairperson's term of office shall begin on the first day of the fiscal year and end on the last day of the same fiscal year.

D. Functions of the Chairperson. The chairperson shall provide leadership in carrying out the functions of the REC, preside over meetings, notify members of meetings, prepare the agenda, and coordinate activities sponsored by the REC. REC Chairs along with OASAM Regional Administrators (RAs) should be copied on policy correspondence from the national office. Together they will ensure that relevant policy correspondence is distributed to all REC members. As required, the chairperson will participate in meetings of the Management Review Board (MRB) via conference call and/or periodically attend meetings in the National Office.

E. Sub-Committees. The REC shall establish as needed such standing or special sub-committees to carry out agreed upon activities and special projects. Sub-committees may include, but need not be limited to, an administrative committee; annual awards committee; and training committee. Subcommittee chairs shall report to the REC chair.

F. Field Committees. The REC may establish committees as needed in sub-regional cities where substantial activities of the Department are represented. Field Committees would provide for coordination of Department-wide activities in those cities in much the same way as the REC does in the regional headquarters. The Chairperson of a field committee will report the committee activities to the REC chair.

G. Meetings. The REC shall meet at least quarterly, but more frequent meetings, including special meetings, may be called as appropriate by the chair.

H. Administrative Support. Together, the REC Chairperson and the OASAM RA will determine the appropriate level of administrative and staff support for the REC and decide how that support will be delivered. In collaboration with the REC Chair, the OASAM RA will serve as the point of contact for all information and correspondence coming to the REC.

5. Other Delegations

A. The Assistant Secretary for Administration and Management shall coordinate RECs and shall issue the necessary procedures and guidance to implement this order.

B. The Solicitor of Labor shall provide legal advice and assistance in implementing this order.

6. Review

This order shall be reviewed at least once every four years to determine if it should be revised, reissued, canceled or continued.

7. Effective Date

This order is effective immediately.

Dated: March 3, 2006.
Elaine L. Chao,
Secretary of Labor.

Attachment 1—REC Membership

Regional Representative, OCIA

Regional Administrators/Directors of:

Employment and Training Administration (ETA)

Occupational Safety and Health Administration (OSHA)

Office of Federal Contract Compliance Programs (OFCCP)

Office of Public Affairs (OPA)

Office of Labor Management Standards (OLMS)

Office of the Assistant Secretary for Administration and Management (OASAM)

Office of Workers Compensation Programs (OWCP)

Employee Benefits Security Administration (EBSA)

Veterans Employment and Training Service (VETS)

Wage and Hour Division (WH)

Women's Bureau (WB)

Regional Commissioner of the Bureau of Labor Statistics (BLS)

Regional Inspector General—Audit

Special Agent in Charge—Office of Labor Racketeering and Fraud Investigations (OLRFI)

Regional Solicitor or Associate Regional Solicitor located in a Regional city (RSOL)

Area Director, Office of Labor Management Standards (OLMS) ¹

¹ When there is no OLMS Regional Administrator in the location.

District Chief Judge, Administrative Law Judges (ALJ)

District Manager of the Mine Safety and Health Administration (MSHA)

District Supervisor, Employee Benefits Security Administration (EBSA) ²

² When there is no EBSA Regional Administrator in the location.

[FR Doc. 06-2424 Filed 3-13-06; 8:45 am]

BILLING CODE 4510-23-P